DEPARTMENT OF COMMERCE

Foreign-Trade Zones Board

[Docket T-2-2011]

Foreign-Trade Zone 26; Atlanta, GA; Application for Temporary/Interim Manufacturing Authority; Makita Corporation of America; (Hand-Held Power Tool and Gasoline/Electric-Powered Garden Product Manufacturing); Buford, GA

An application has been submitted to the Executive Secretary of the Foreign-Trade Zones Board (the Board) by the Georgia Foreign-Trade Zone, Inc., grantee of FTZ 26, requesting temporary/interim manufacturing (T/IM) authority within FTZ 26 at the Makita Corporation of America (Makita) facility, located in Buford, Georgia. The application was filed on June 22, 2011.

The Makita facility (300 employees, 75 acres, 1.25 million units per year capacity) is located at 2650 Buford Highway, Buford (proposed Site 20). Under T/IM procedures, the company has requested authority to produce engine blowers (HTSUS 8414.59, duty-free-2.3%); table, slide and compound miter saws (HTSUS 8465.91, 3.0%); drills and drill kits (HTSUS 8467.21, 1.7%); drill and saw kits (HTSUS 8467.22, duty-free); drill, grinder, hammer, sander, planer, router and screw driver kits (HTSUS 8467.29, duty-free); and, gasoline and electric-powered brush cutters and hedge trimmers (8467.89, duty-free). Foreign components that would be used in production (representing 64% of the value of the finished product) include: batteries (HTSUS 8507.80, 3.4%); armatures (HTSUS 8503.00, free-6.5%); tool bags (HTSUS 4202.92, 3.4-20%); driver, hammer and angle drills (HTSUS 8467.21, 1.7%); chargers (HTSUS 8504.40, free-1.5%) flashlights (HTSUS 8513.10, 3.5-12.5%); gears, housings, clutches and gear shafts (HTSUS 8483.90, 2.5-5.5%); radios (HTSUS 8527.92, free-3%); grips, thumb screws, knobs and handles (HTSUS 3926.90, free-6.5%); tool chests and drill chucks (HTSUS 8466.10, 3.9%); wrenches (HTSUS 8204.11, 9%); switch units (HTSUS 8536.50, free-2.7%); power cords (HTSUS 8544.42, free-2.6%); flanges (HTSUS 7307.91, 3.2%-5.5%); screws and bolts (HTSUS 7318.15, free-8.5%); rubber rings, sleeves, grommets and plates (HTSUS 4016.99, free-4.3%); screws (HTSUS 7318.14, 6.2-8.6%); ball bearings (HTSUS 8482.10, 2.4-9%); battery covers and lenses (HTSUS 3923.50, 5.3%) grease, lubricants and additives (HTSUS 2710.19, 5.7%); felt rings (HTSUS 5911.90, 3.8%); lock springs (HTSUS 7320.20, free-3.9%); lead wire assemblies (HTSUS 8544.49, free-5.3%); needle cages (HTSUS 8482.40, 5.8%); drill bits (HTSUS 8207.90, 1.6-4.8%); socket wrenches (HTSUS 8204.20, 9.0%); styrene polymers (HTSUS 3903.19, 6.5%); polyamides (HTSUS 3908.10, 6.3%); resins (HTSUS 8543.70, free-2.6%); and, batteries (HTSUS 8507.30, 2.5%). T/IM authority could be granted for a period of up to two years.

FTZ procedures could exempt Makita from customs duty payments on the foreign components used in export production. The company anticipates that some 47 percent of the plant's shipments will be exported. On its domestic sales, Makita would be able to choose the duty rates during customs entry procedures that apply to hand-held power tools and gasoline/electric-powered garden products (duty rate free-3%) for the foreign inputs noted above.

In accordance with the Board's regulations, Christopher Kemp of the FTZ Staff is designated examiner to evaluate and analyze the facts and information presented in the application and case record and to report findings and recommendations pursuant to Board Orders 1347 and 1480.

Public comment is invited from interested parties. Submissions (original and 3 copies) shall be addressed to the Board's Executive Secretary at the following address: Office of the Executive Secretary, Foreign-Trade Zones Board, U.S. Department of Commerce, Room 2111, 1401 Constitution Ave. NW., Washington, DC 20230. The closing period for their receipt is July 28, 2011.

Makita has also submitted a request to the FTZ Board for FTZ manufacturing authority beyond the two-year T/IM period, which may include additional products and components. It should be noted that the request for extended authority would be docketed separately and would be processed as a distinct proceeding. Any party wishing to submit comments for consideration regarding the request for extended authority would need to submit such comments pursuant to the separate notice that would be published for that request.

A copy of the application will be available for public inspection at the Office of the Foreign-Trade Zones Board's Executive Secretary at the address listed above, and in the “Reading Room” section of the Board's Web site, which is accessible via http://www.trade.gov/ftz. For further information, contact Christopher Kemp at Christopher.Kemp@trade.gov or (202) 482-0862.

Dated: June 22, 2011.
Andrew McGilvray,
Executive Secretary.

[FR Doc. 2011-16210 Filed 6-27-11; 8:45 am]

BILLING CODE P